DEPARTMENT OF COMMERCE

National Oceanic and Atmospheric Administration

RIN 0648-XD922

Presidential Task Force on Combating Illegal Unreported and Unregulated (IUU) Fishing and Seafood Fraud Action Plan Recommendations 14/15 Identifying Species “At Risk” of IUU Fishing and Seafood Fraud

AGENCY: National Marine Fisheries Service (NMFS), National Oceanic and Atmospheric Administration (NOAA), Commerce.

ACTION: Notice; request for comments.

SUMMARY: The National Ocean Council Committee on IUU Fishing and Seafood Fraud (NOC Committee) is seeking public input on principles to be used in determining seafood species “at risk” for IUU fishing and seafood fraud.

DATES: Comments must be received by June 8, 2015.

ADDRESSES: You may submit comments on this document, identified by NOAA-NMFS-2014-0090, by any of the following methods:

• Electronic Submission: Submit all electronic public comments via the Federal e-Rulemaking Portal. Go to www.regulations.gov/#!docketDetail;D=NOAA-NMFS-2014-0090, click the “Comment Now!” icon, complete the required fields, and enter or attach your comments.

• Mail: Submit written comments to Danielle Rioux, 1315 East-West Highway; Silver Spring, Maryland 20910.

Instructions: Comments sent by any other method, to any other address or individual, or received after the end of the comment period, may not be considered by the NOC Committee. All comments received are a part of the public record and will generally be posted for public viewing on www.regulations.gov without change. All personal identifying information (e.g., name, address, etc.), confidential business information, or otherwise sensitive information submitted voluntarily by the sender will be publicly accessible. The NOC Committee will accept anonymous comments (enter “N/A” in the required fields if you wish to remain anonymous).

FOR FURTHER INFORMATION CONTACT: Danielle Rioux, 301-427-8516.

SUPPLEMENTARY INFORMATION: According to NOAA, in 2013, U.S. fishers landed 9.9 billion pounds of fish and shellfish worth $5.5 billion. Globally, illegal, unreported, and unregulated (IUU) fishing and seafood fraud undermine the sustainability of U.S. and global seafood stocks and negatively impact general ecosystem health. At the same time, IUU fishing and fraudulent seafood products distort legal markets and unfairly compete with the products of law-abiding fishers and seafood industries.

On March 15, 2015, the Presidential Task Force on Combating IUU Fishing and Seafood Fraud (Task Force), co-chaired by the Departments of Commerce and State, took an historic step to address these issues and published its action plan to implement Task Force recommendations (http://www.nmfs.noaa.gov/ia/iuu/taskforce.html).

This plan articulates the aggressive steps that Federal agencies will take to implement the recommendations the Task Force made to the President in December 2014 on a comprehensive framework of integrated programs to combat IUU fishing and seafood fraud. The plan identifies actions that will strengthen enforcement, create and expand partnerships with state and local governments, industry, and non-governmental organizations, and create a risk-based traceability program to track seafood from harvest to entry into U.S. commerce, including the use of existing traceability mechanisms. The work the Task Force began will continue under the oversight of the NOC Committee.

This notice is the first step in implementing Task Force Recommendations 14 and 15, “Identifying current at risk species threatened by IUU fishing and seafood fraud.” Once “at-risk” species have been determined, the NOC Committee will transmit the list to agencies for appropriate action. This list will form the basis for the species addressed in the first phase of the risk-based seafood traceability program, as described in the Task Force Action Plan.

With this notice, the NOC Committee is soliciting comment on what principles should be used to determine the seafood species “at risk” for IUU fishing and seafood fraud. Recommended principles should be measurable (i.e., there should be a reasonable amount of existing data to assess), and be applicable to domestic and/or international fisheries.

For example, possible principles could include assessing the extent to which species are known to have:

• significant domestic or international enforcement-related concerns, such as substantial numbers of violations of relevant regulations or conservation and management measures, significant challenges or limitations in existing enforcement regimes, or repeated reports of IUU activity;

• catches that are mis-reported or not reported according to the reporting procedures of the relevant international regional fisheries management organizations or national authorities, particularly when they are of high economic value;

• a human health risk when substituted for other species; and

• instances of being substituted for other species in order to avoid tariffs or to sell a lower value fish at a higher price.

Following the public comment period, the NOC Committee will take the input received into consideration as it develops a draft list of principles to be used in determining species “at risk” for IUU fishing and seafood fraud. The draft list of principles will then be used to create a draft list of “at-risk” species. Both the draft list of principles and the draft list of “at-risk” species will be published in the Federal Register for public comment in July 2015.

Dated: April 27, 2015.
Samuel D. Rauch III,
Deputy Assistant Administrator for Regulatory Programs, National Marine Fisheries Service.

[FR Doc. 2015-10125 Filed 4-29-15; 8:45 am]

BILLING CODE 3510-22-P